DEPARTMENT OF LABOR

Occupational Safety and Health Administration

[Docket No. OSHA-2021-0004]

Advisory Committee on Construction Safety and Health (ACCSH): Notice of Meetings

AGENCY: Occupational Safety and Health Administration (OSHA), Labor.

ACTION: Notice of ACCSH meeting.

SUMMARY: The Advisory Committee on Construction Safety and Health (ACCSH) will meet August 11, 2021.

DATES: ACCSH will meet from 1:00 p.m. to 5:00 p.m., ET, Wednesday, August 11, 2021.

Submission of comments and requests to speak: Submit comments and requests to speak at the ACCSH meeting by Tuesday, July 27, 2021, identified by the docket number for this Federal Register notice (Docket No. OSHA-2021-0004), using the following method:

Electronically: Comments and requests to speak, including attachments, must be submitted electronically at: http://www.regulations.gov, the Federal eRulemaking Portal. Follow the online instructions for submitting comments.

Requests for special accommodations: Please submit requests for special accommodations for this ACCSH meeting by Tuesday, July 27, 2021, to Ms. Gretta Jameson, OSHA, Directorate of Construction, U.S. Department of Labor; telephone: (202) 693-2020; email: jameson.grettah@dol.gov.

FOR FURTHER INFORMATION CONTACT:

For press inquiries: Mr. Frank Meilinger, Director, OSHA Office of Communications, U.S. Department of Labor; telephone (202) 693-1999; email: meilinger.francis2@dol.gov.

For general information about ACCSH: Mr. Damon Bonneau, OSHA, Directorate of Construction, U.S. Department of Labor; telephone (202) 693-2183; email: bonneau.damon@dol.gov.

Telecommunication requirements: For additional information about the telecommunication requirements for the meeting, please contact Ms. Gretta Jameson, OSHA, Directorate of Construction, U.S. Department of Labor; telephone: (202) 693-2020; email: jameson.grettah@dol.gov.

For copies of this Federal Register Notice: Electronic copies of this Federal Register Notice are available at: http://www.regulations.gov. This notice, as well as news releases and other relevant information, are also available at OSHA's web page at www.osha.gov.

SUPPLEMENTARY INFORMATION:

I. Background

ACCSH advises the Secretary of Labor and the Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.) (see also 29 CFR 1911.10 and 1912.3). In addition, the CSA and OSHA regulations require the Assistant Secretary to consult with ACCSH before the agency proposes any occupational safety and health standard affecting construction activities (40 U.S.C. 3704; 29 CFR 1911.10).

ACCSH operates in accordance with the Federal Advisory Committee Act (FACA), as amended (5 U.S.C. App. 2), and its implementing regulations (41 CFR 102-3 et seq.); and Department of Labor Manual Series Chapter 1-900 (8/31/2020). ACCSH generally meets two to four times a year.

II. Meeting Information

Attendance at this ACCSH meeting will be virtual only. Meeting information will be posted in the Docket (Docket No. OSHA-2021-0004) and on the ACCSH web page, https://www.osha.gov/advisorycommittee/accsh, prior to the meeting.

Meeting agenda: The tentative agenda for this meeting includes:

• Acting Assistant Secretary's agency update and remarks;

• Directorate of Construction industry update;

• Discussion of the OSHA Construction Focus Four Hazards;

• ACCSH Workgroup discussion; and,

• Public comment period.

Requests to speak and speaker presentations: Attendees who wish to address ACCSH must submit a request to speak, as well as any written or electronic presentation, by Tuesday, July 27, 2021, using the method listed in the ADDRESSES section of this notice. The request must state:

• The amount of time requested to speak;

• The interest you represent (e.g., business, organization, affiliation), if any; and

• A brief outline of your presentation.

PowerPoint presentations and other electronic materials must be compatible with PowerPoint 2010 and other Microsoft Office 2010 formats.

Alternately, you may request to address ACCSH briefly during the public-comment period. At her discretion, the ACCSH Chair may grant requests to address ACCSH as time and circumstances permit.

Docket: OSHA will place comments, requests to speak, and speaker presentations, including any personal information you provide, in the public docket without change, and those documents may be available online at: http://www.regulations.gov. Therefore, OSHA cautions interested parties about submitting personal information such as Social Security Numbers and birthdates. OSHA also places in the public docket the meeting transcript, meeting minutes, documents presented at the meeting, and other documents pertaining to the ACCSH meeting. These documents are available online at: http://www.regulations.gov. To read or download documents in the public docket for this ACCSH meeting, go to Docket No. OSHA-2021-0004 at: http://www.regulations.gov. All documents in the public docket are listed in the index; however, some documents (e.g., copyrighted material) are not publicly available to read or download through http://www.regulations.gov. All submissions are available for inspection and copying, when permitted, at the OSHA Docket Office. For information on using http://www.regulations.gov to make submissions or to access the docket, click on the “Help” tab at the top of the homepage. Contact the OSHA Docket Office at (202) 693-2350 for information about materials not available through that website and for assistance in using the internet to locate submissions and other documents in the docket.

Authority and Signature

James S. Frederick, Acting Assistant Secretary of Labor for Occupational Safety and Health, authorized the preparation of this notice pursuant to 29 U.S.C. 655, 40 U.S.C. 3704, Secretary of Labor's Order No. 8-2020 (85 FR 58393), 5 U.S.C. App. 2, and 29 CFR part 1912.

Signed at Washington, DC, on July 2, 2021.
James S. Frederick,
Acting Assistant Secretary of Labor for Occupational Safety and Health.

[FR Doc. 2021-14631 Filed 7-8-21; 8:45 am]

BILLING CODE 4510-26-P